DEPARTMENT OF LABOR

Employment and Training Administration

[TA-W-71,903]

JP Morgan Chase and Company, JP Morgan Investment Banking Global Corporate Financial Operations, New York, NY; Notice of Affirmative Determination Regarding Application for Reconsideration

By application dated October 12, 2009, a petitioner requested administrative reconsideration of the negative determination regarding workers' eligibility to apply for Trade Adjustment Assistance (TAA) applicable to workers and former workers of the subject firm. The determination was issued on September 24, 2009. The Notice of Determination will soon be published in the Federal Register.

The initial investigation resulted in a negative determination based on the finding that workers' separations or threat of separations was not related to an increase in imports or shift/acquisition of business research and clerical support operations to a foreign country.

In the request for reconsideration, the petitioner alleged that employment at the subject firm was negatively impacted by a shift in services from the subject firm to India. The petitioner also alleged that the services performed by workers of the subject firm were supplied to external customers.

The Department has carefully reviewed the request for reconsideration and the existing record and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 27th day of October 2009.
Elliott S. Kushner,
Certifying Officer, Division of Trade Adjustment Assistance.

[FR Doc. E9-27104 Filed 11-10-09; 8:45 am]

BILLING CODE 4510-FN-P